DEPARTMENT OF HOMELAND SECURITY

Coast Guard

33 CFR Part 117

[USCG-2008-0177]

Drawbridge Operation Regulations; Harlem River, New York City, NY

AGENCY: Coast Guard, DHS.

ACTION: Notice of temporary deviation from regulations.

SUMMARY: The Commander, First Coast Guard District, has issued a temporary deviation from the regulation governing the operation of the TBTA Bridge across the Harlem River, mile 1.3, at New York City, New York. Under this temporary deviation the TBTA Bridge may remain in the closed position from May 1, 2008 through August 31, 2008. This deviation is necessary to facilitate scheduled bridge maintenance.

DATES: This deviation is effective from May 1, 2008 through August 31, 2008.

ADDRESSES: Documents indicated in this preamble as being available in the docket are part of docket USCG-2008-0177 and are available online at http:// www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 2 p.m., Monday through Friday, except Federal holidays.

FOR FURTHER INFORMATION CONTACT: Joe Arca, Project Officer, First Coast Guard District, at (212) 668-7165.

SUPPLEMENTARY INFORMATION: The TBTA Bridge, across the Harlem River at mile 1.3, at New York City, New York, has a vertical clearance in the closed position of 54 feet at mean high water and 59 feet at mean low water. The existing drawbridge operation regulations are listed at 33 CFR 117.789(d).

The owner of the bridge, Triborough Bridge & Tunnel Authority (TBTA), requested a temporary deviation to facilitate scheduled bridge maintenance, cleaning and painting. The mariners that normally transit this bridge do not require bridge openings.

Under this temporary deviation the TBTA Bridge may remain in the closed position from May 1, 2008 through August 31, 2008. Vessels that can pass under the bridge without a bridge opening may do so at all times.

In accordance with 33 CFR 117.35(e), the bridge must return to its regular operating schedule immediately at the end of the designated time period. This deviation from the operating regulations is authorized under 33 CFR 117.35.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

Dated: March 17, 2008.
Gary Kassof,
Bridge Program Manager, First Coast Guard District.

[FR Doc. E8-6151 Filed 3-25-08; 8:45 am]

BILLING CODE 4910-15-P